INTERNATIONAL TRADE COMMISSION

[Investigation Nos. 731-TA-1092 and 1093 (Final) (Remand)]

Diamond Sawblades and Parts Thereof From China and Korea

AGENCY: United States International Trade Commission.

ACTION: Notice of remand proceedings.

SUMMARY: The U.S. International Trade Commission (“Commission”) hereby gives notice of the court-ordered remand of its final determinations in the antidumping investigation Nos.731-TA-1092-1093 concerning diamond sawblades and parts thereof from China and Korea. For further information concerning the conduct of this proceeding and rules of general application, consult the Commission's Rules of Practice and Procedure, part 201, subparts A through E (19 CFR part 201), and part 207, subpart A (19 CFR part 207).

DATES: Effective Date: March 24, 2008.

FOR FURTHER INFORMATION CONTACT: Douglas Corkran, Office of Investigations, telephone 202-205-3057, or Charles St. Charles, Office of General Counsel, telephone 202-205-2782, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of investigation Nos. 731-TA-1092 and 1093 may be viewed on the Commission's electronic docket (“EDIS”) at http://edis.usitc.gov.

SUPPLEMENTARY INFORMATION: Background.—In July 2006, the Commission determined that an industry in the United States was not materially injured or threatened with material injury by reason of imports of diamond sawblades and parts thereof from China and Korea that are sold in the United States at less than fair value. The Commission's determinations were appealed to the Court of International Trade (“CIT” or “Court”). On February 6, 2008, the Court issued a decision remanding the matter to the Commission for further proceedings consistent with that opinion. Diamond Sawblade Manufacturers v. United States, Slip Op. 08-18 (Ct. Int'l Trade, Feb. 6, 2008). In its opinion, the Court found that the Commission had not provided adequate explanation or substantial evidentiary support for certain of its findings. The Court instructed the Commission to provide further explanation of its finding that there was limited competition between the subject imports from China and Korea and the domestic like product during the period of investigation, and to provide further explanation of its volume, price, impact, and threat findings, to the extent they were based on the Commission's limited competition finding. The Court also instructed the Commission to provide further explanation of certain aspects of its finding that there was not a correlation between domestic producers' price movements and prices for the subject imports.

Participation in the proceeding.—Only those persons who were interested parties and parties to the proceeding in the investigations and were also parties to the action before the CIT may participate in the remand proceeding. Such persons need not make any additional filings with the Commission to participate in the remand proceeding. Business proprietary information (“BPI”) referred to during the remand proceeding will be governed, as appropriate, by the administrative protective order issued in the investigations.

Written submissions.—The Commission is reopening the record for the limited purpose of collecting data pertinent to its analysis of the extent to which competition between subject diamond sawblade imports and the domestic like product was or was not limited during the period of investigation by differences in product and customer types. The Commission will permit the parties to file comments addressing the new information obtained by the Commission on remand and the specific issues that are the subject of the CIT's remand instructions. The parties may not submit any new factual information in their comments; nor may they raise issues that are not the subject of the remand instructions. Any such comments must be filed with the Commission no later than April 18, 2008, and must be no more than twenty (20) double-spaced, single-sided pages of textual material. The Commission will not hold a hearing on remand.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR Part 201), and part 207, subpart A (19 CFR Part 207) for provisions of general applicability concerning written submissions to the Commission.

By order of the Commission.
Issued: March 24, 2008.
William R. Bishop,
Acting Secretary to the Commission.

[FR Doc. E8-6302 Filed 3-28-08; 8:45 am]

BILLING CODE 7020-02-P